DEPARTMENT OF JUSTICE

[OMB Number 1140-0071]

Agency Information Collection Activities; Proposed eCollection eComments Requested; Notification to Fire Safety Authority of Storage of Explosive Materials

AGENCY: Bureau of Alcohol, Tobacco, Firearms and Explosives, Department of Justice.

ACTION: 30-Day notice.

SUMMARY: The Department of Justice (DOJ), Bureau of Alcohol, Tobacco, Firearms and Explosives (ATF), will be submitting the following information collection request to the Office of Management and Budget (OMB) for review and approval in accordance with the Paperwork Reduction Act of 1995.

DATES: Comments are encouraged and will be accepted for 30 days until March 10, 2025.

FOR FURTHER INFORMATION CONTACT: If you have comments especially on the estimated public burden or associated response time, suggestions, or need a copy of the proposed information collection instrument with instructions or additional information, please contact: John Basile, EIPB, by email at EIPB@atf.gov/john.basile@atf.gov, or telephone at (202) 648-7120.

SUPPLEMENTARY INFORMATION: The proposed information collection was previously published in the Federal Register, volume 89 page 91427, on Tuesday, November 19, 2024, allowing a 60-day comment period. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1140-0071. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Revision of a previously approved collection.

2. Title of the Form/Collection: Notification to Fire Safety Authority of Storage of Explosive Materials.

3. Agency form number, if any, and the applicable component of the Department of Justice sponsoring the collection: None.

Component: Bureau of Alcohol, Tobacco, Firearms and Explosives, U.S. Department of Justice.

4. Affected public who will be asked or required to respond, as well as a brief abstract: Affected Public: State, local and tribal governments, farms, individuals or households, Private Sector—for or not for profit institutions.

Abstract: The information collection is necessary for the safety of emergency response personnel responding to fires at sites where explosives are stored. Information Collection (IC) OMB 1140-0071 is being revised to update the overall public burden, which includes the monetized value of the hour burden per response, an increase of respondents from 975 to 10,000, and increased postage cost from 49 cents to 73 cents. Together, these changes resulted in an increase in annual burden hours from 488 to 5,000, an annual monetized value of the hour burden increase to $223,950, and an annual increase in postage costs from $359 to $1,825.

5. Obligation to Respond: Mandatory. Per 27 CFR 55.201, 18 U.S.C. 842(j), and 18 U.S.C. 846.

6. Total Estimated Number of Respondents: 10,000.

7. Estimated Time per Respondent: 30 minutes.

8. Frequency: Once annually.

9. Total Estimated Annual Time Burden: 5,000 hours.

10. Total Estimated Annual Other Costs Burden: The total annual monetized value of the time burden associated with this collection is $223,950 (10,000 total responses * $22.395 cost per response). Over the three-year renewal period for this ICR, the monetized value of the time burden (due to annual notices) would be $671,850.

If additional information is required, contact: Darwin Arceo, Department Clearance Officer, Policy and Planning Staff, Justice Management Division, United States Department of Justice, Two Constitution Square, 145 N Street NE, 4W-218 Washington, DC 20530.

Dated: January 31, 2025.
Darwin Arceo,
Department Clearance Officer for PRA, U.S. Department of Justice.

[FR Doc. 2025-02276 Filed 2-5-25; 8:45 am]

BILLING CODE 4410-FY-P